ENVIRONMENTAL PROTECTION AGENCY

40 CFR Part 52

[EPA-R03-OAR-2013-0816; FRL-9930-29-Region 3]

Approval and Promulgation of Air Quality Implementation Plans; Delaware; Nonattainment New Source Review; Emission Offset Provisions; Reopening of Comment Period

AGENCY: Environmental Protection Agency (EPA).

ACTION: Proposed rule; reopening of comment period.

SUMMARY: Environmental Protection Agency (EPA) is reopening the comment period for a notice of proposed rulemaking (NPR) published on May 26, 2015. In the NPR, EPA proposed disapproval of a revision to the Delaware State Implementation Plan (SIP) related to nonattainment New Source Review (NSR) preconstruction permit program requirements for emission offsets. A commenter requested additional time to review the proposal and prepare comments. In response to this request, EPA is reopening the comment period for this proposal through August 14, 2015. All comments received on or before August 14, 2015 will be entered into the public record and considered by EPA before taking final action on the proposed rule. Comments submitted between the close of the original comment period and the reopening of this comment period will be accepted and considered.

DATES: The comment period for the notice of proposed rulemaking (NPR) published on May 26, 2015 (80 FR 30015), is reopened. Comments must be received on or before August 14, 2015.

ADDRESSES: Submit your comments, identified by Docket ID Number EPA-R03-OAR-2013-0816 by one of the following methods:

A. www.regulations.gov. Follow the on-line instructions for submitting comments.

B. Email: campbell.dave@epa.gov.

C. Mail: EPA-R03-OAR-2013-0816, Mr. David Campbell, Associate Director, Office of Permits and Air Toxics, Mailcode 3AP10, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2013-0816. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Delaware Department of Natural Resources and Environmental Control, 89 Kings Highway, P.O. Box 1401, Dover, Delaware 19903.

FOR FURTHER INFORMATION CONTACT: Mrs. Amy Johansen, (215) 814-2156, or by email at johansen.amy@epa.gov.

SUPPLEMENTARY INFORMATION: On May 26, 2015, EPA published a notice of proposed rulemaking (80 FR 30015). In the NPR, EPA proposed disapproval of a revision to the Delaware SIP related to nonattainment NSR preconstruction permit program requirements for emission offsets. In that action, EPA proposed disapproval, because the submittal did not satisfy the requirements of Clean Air Act (CAA) or the Federal implementing regulations, which establish the criteria under which the owner or operator of a new or modified major stationary source must obtain the required emission offsets “from the same source or other sources in the same nonattainment area” with limited exceptions, for Delaware's nonattainment NSR preconstruction permitting program. In addition, EPA proposed disapproval of the SIP revision because Delaware exercises authorities that are reserved for EPA under section 107 of the CAA.

Dated: June 25, 2015.
Shawn M. Garvin,
Regional Administrator, Region III.

[FR Doc. 2015-16919 Filed 7-14-15; 8:45 am]

BILLING CODE 6560-50-P